DEPARTMENT OF TRANSPORTATION

Federal Aviation Administration

14 CFR Part 39

[Docket No. FAA-2013-0301; Directorate Identifier 2013-NM-025-AD; Amendment 39-17575; AD 2013-18-02]

RIN 2120-AA64

Airworthiness Directives; the Boeing Company Airplanes

AGENCY: Federal Aviation Administration (FAA), DOT.

ACTION: Final rule.

SUMMARY: We are adopting a new airworthiness directive (AD) for certain The Boeing Company Model 767-200, -300, -300F, and -400ER series airplanes. This AD was prompted by reports of cracked and corroded nuts on an outboard flap support rib. This AD requires, for certain airplanes, repetitive inspections of the cap seal for damaged sealant on nuts common to certain outboard flap support ribs, and related investigative and corrective actions if necessary. For certain other airplanes, this AD also requires repetitive inspections of the cap seal for damaged sealant on nuts common to certain outboard flap support ribs, related investigative and corrective actions if necessary, and if necessary, a detailed inspection to determine the nut type installed in the outboard flap support rib and corrective actions. This AD also provides terminating action for the repetitive inspections under certain conditions. We are issuing this AD to detect and correct cracked and corroded nuts and bolts and the installation of incorrect nuts on certain outboard flap support ribs, which could lead to additional nut and bolt damage in the joint, result in loss of an outboard flap, and adversely affect continued safe flight and landing of the airplane.

DATES: This AD is effective October 22, 2013.

The Director of the Federal Register approved the incorporation by reference of a certain publication listed in the AD as of October 22, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

SUPPLEMENTARY INFORMATION:

Discussion

We issued a notice of proposed rulemaking (NPRM) to amend 14 CFR part 39 to include an AD that would apply to the specified products. The NPRM published in the Federal Register on April 10, 2013 (78 FR 21276). The NPRM proposed to require, for certain airplanes, repetitive inspections of the cap seal for damaged sealant on nuts common to certain outboard flap support ribs, related investigative and corrective actions if necessary, and replacement of all fasteners in the support ribs, which terminates the repetitive inspections. For certain other airplanes, the NPRM proposed to require repetitive inspections of the cap seal for damaged sealant on nuts common to certain outboard flap support ribs, related investigative and corrective actions if necessary, and if necessary, a detailed inspection to determine the nut type installed in the outboard flap support rib and corrective actions. For those airplanes, the NPRM also proposed to provide for optional replacement of all fasteners in the support ribs, which would terminate the repetitive inspections.

Comments

We gave the public the opportunity to participate in developing this AD. The following presents the comments received on the proposal (78 FR 21276, April 10, 2013) and the FAA's response to each comment.

Request To Refer to Revised Service Information

Japan Airlines, UPS, and Boeing stated that Boeing has issued revised service information and requested that the service information referenced in the NPRM (78 FR 21276, April 10, 2013) be updated to refer to Boeing Service Bulletin 767-57A0131, Revision 1, dated May 8, 2013.

We agree with the commenters' requests and have revised paragraphs (c), (g), (h), (i), and (j) of this final rule to include Boeing Service Bulletin 767-57A0131, Revision 1, dated May 8, 2013. We have also added a new paragraph (k) of this AD to provide credit for actions accomplished before the effective date of this AD using Boeing Alert Service Bulletin 767-57A0131, dated October 30, 2012, and reidentified the subsequent paragraphs.

Clarification Regarding the Installation of Winglets

Aviation Partners Boeing and UPS stated that the installation of winglets per Supplemental Type Certificate (STC) ST01920SE (http://rgl.faa.gov/Regulatory_and_Guidance_Library/rgstc.nsf/0/59027f43b9a7486e86257b1d006591ee/$FILE/ST01920SE.pdf) does not affect the accomplishment of the manufacturer's service instructions.

We agree with the commenters' statements that the installation of winglets as specified in STC ST01920SE (http://rgl.faa.gov/Regulatory_and_Guidance_Library/rgstc.nsf/0/59027f43b9a7486e86257b1d006591ee/$FILE/ST01920SE.pdf) does not affect accomplishment of the requirements of this AD, and for airplanes on which STC ST01920SE is installed, a “change in product” AMOC approval request is not necessary to comply with the requirements of section 39.17 of the Federal Aviation Regulations (14 CFR 39.17). We have added this provision in new paragraph (c)(2) of this final rule.

Request To Correct a Reference to a Table Number

UPS noted a typographical error in paragraph (h)(1)(i) of the NPRM (78 FR 21276, April 10, 2013). The inspection intervals are identified in table 2 of paragraph 1.E., “Compliance,” of Boeing Service Bulletin 767-57A0131, Revision 1, dated May 8, 2013, and the NPRM erroneously referred to table 1.

We agree there is an error and have revised paragraph (h)(1)(i) of this AD to refer to table 2 of paragraph 1.E., “Compliance,” of Boeing Service Bulletin 767-57A0131, Revision 1, dated May 8, 2013.

Request To Clarify Terminating Action

UPS noted that paragraph (i) of the NPRM (78 FR 21276, April 10, 2013) implies that the only terminating action for the repetitive inspections proposed by paragraph (h) of the NPRM is replacement of all fasteners within a support rib. UPS stated that the Boeing service information provides terminating action by replacing fasteners at all discrepant or corroded locations and/or the verification of correct nut type at all other locations. UPS requested that these corrective actions be identified as terminating action for the inspections proposed by paragraph (h) of the NPRM for the associated support rib.

We agree that clarification is needed regarding terminating action for the repetitive inspections required by paragraph (h) of this final rule. We have changed the header of paragraph (i) of this final rule to “Terminating Action for Repetitive Inspections” and split the paragraph into three subparagraphs. Paragraph (i)(1) of this final rule states that, if during any inspection required by paragraphs (g) or (h) of this AD, any cracking is found, all fasteners within a support rib must be replaced to terminate the repetitive inspections for that support rib only. New paragraph (i)(2) of this final rule states that if a discrepancy other than cracking is found (e.g., corrosion) during any inspection required by paragraph (g) of this final rule, all fasteners within a support rib must be replaced to terminate the repetitive inspections for that support rib only. New paragraph (i)(3) of this final rule states that if a discrepancy other than cracking is found (e.g., corrosion) during any inspection required by paragraph (h) of this final rule, replacing the affected fastener terminates the repetitive inspections for only that fastener within that support rib.

Request To Combine Paragraphs (h)(1) and (h)(2) of the NPRM (78 FR 21276, April 10, 2013)

UPS stated that the intent of paragraph (h) of the NPRM (78 FR 21276, April 10, 2013) is to identify the requirements of the initial inspection, and the intent of paragraphs (h)(1) and (h)(2) of the NPRM is to identify the requirements of the repetitive inspections based on the findings of the initial inspection. UPS stated that the investigative and corrective actions applicable to paragraph (h)(1) of the NPRM are the same as those in paragraph (h)(2) of the NPRM and suggested that these two paragraphs could be combined without affecting the intent of this AD.

We do not agree that paragraphs (h)(1) and (h)(2) of this final rule can be combined. Paragraph (h)(1) of this final rule describes actions based on the findings of the cap seal detailed inspections, and paragraph (h)(2) of this final rule addresses actions based on the findings of the inspections for the nuts, bolts, and washers on the support ribs. We have not changed this final rule in this regard.

Request To Change Compliance Time for Initial Detailed Inspection

UPS requested that the threshold for conducting the initial detailed inspection of the cap seal required by paragraphs (g) and (h) of the NPRM (78 FR 21276, April 10, 2013) be extended from 12 months to 24 months. UPS commented that if it is not possible to extend the threshold for the initial inspection, then the text should be revised to read “12 months after the AD effective date or within the appropriate total years of aircraft service-life”—whichever occurs later. UPS requested this change to reflect the reported technical data as well as to give operators time to schedule the task at a facility capable of accomplishing the scope of the work.

We do not agree with UPS's request to extend the threshold for the initial detailed inspection. We have determined that the compliance time, as proposed, represents the maximum interval of time allowable for the affected airplanes to continue to safely operate before the initial inspection is done. Since maintenance schedules vary among operators, there would be no assurance that the airplane would be modified during that maximum interval. We have not changed this final rule in this regard.

Furthermore, we do not agree with UPS's request to revise the compliance time text to include “or within the appropriate total years of aircraft service-life”—whichever occurs later. The installation of an incorrect nut during production, and the possibility of the nut cracking due to being overtorqued, is unrelated to the age of the airplane. We have not changed this final rule in this regard.

Conclusion

We reviewed the relevant data, considered the comments received, and determined that air safety and the public interest require adopting this AD with the changes described previously—and minor editorial changes. We have determined that these minor changes:

• Are consistent with the intent that was proposed in the NPRM (78 FR 21276, April 10, 2013) for correcting the unsafe condition; and

• Do not add any additional burden upon the public than was already proposed in the NPRM (78 FR 21276, April 10, 2013).

We also determined that these changes will not increase the economic burden on any operator or increase the scope of this AD.

Costs of Compliance

We estimate that this AD affects 440 airplanes of U.S. registry.

We estimate the following costs to comply with this AD:

Estimated Costs
Action | Labor cost | Parts cost | Cost per product | Cost on U.S. operators
Detailed inspections | 1 work-hour × $85 per hour = $85 | $0 | $85 | $37,400
Replacement of all fasteners (Group 1 airplanes) | 2 work-hours × $85 per hour = $170 | 2,553 | 2,723 | 1,198,120

We estimate the following costs to do any necessary related investigative and corrective actions and detailed inspections for nut type that would be required based on the results of the inspections. We have no way of determining the number of aircraft that might need these actions.

On-Condition Costs
Action | Labor cost | Parts cost | Cost per product
Related investigative and corrective actions and detailed inspection for nut type | Up to 3 work-hours × $85 per hour = $255 | $2,553 | Up to $2,808.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-18-02 The Boeing Company: Amendment 39-17575; Docket No. FAA-2013-0301; Directorate Identifier 2013-NM-025-AD.

(a) Effective Date

This AD is effective October 22, 2013.

(b) Affected ADs

None.

(c) Applicability

(1) This AD applies to The Boeing Company Model 767-200, 767-300, 767-300F, and 767-400ER series airplanes; certificated in any category; as identified in Boeing Service Bulletin 767-57A0131, Revision 1, dated May 8, 2013.

(2) Installation of Supplemental Type Certificate (STC) ST01920SE (http://rgl.faa.gov/Regulatory_and_Guidance_Library/rgstc.nsf/0/59027f43b9a7486e86257b1d006591ee/$FILE/ST01920SE.pdf) does not affect the ability to accomplish the actions required by this AD. Therefore, for airplanes on which STC ST01920SE is installed, a “change in product” alternative method of compliance (AMOC) approval request is not necessary to comply with the requirements of 14 CFR 39.17.

(d) Subject

Joint Aircraft System Component (JASC)/Air Transport Association (ATA) of America Code 57, Wings.

(e) Unsafe Condition

This AD was prompted by reports of cracked and corroded nuts on an outboard flap support rib. We are issuing this AD to detect and correct cracked and corroded nuts and bolts and the installation of incorrect nuts on certain outboard flap support ribs, which could lead to additional nut and bolt damage in the joint, result in loss of an outboard flap, and adversely affect continued safe flight and landing of the airplane.

(f) Compliance

Comply with this AD within the compliance times specified, unless already done.

(g) For Group 1 Airplanes: Repetitive Inspections of the Support Ribs, Related Investigative and Corrective Actions, and Fastener Replacement

For Group 1 airplanes, as specified in Boeing Service Bulletin 767-57A0131, Revision 1, dated May 8, 2013: Except as required by paragraph (j) of this AD, at the time specified in table 1 of paragraph 1.E., “Compliance,” of Boeing Service Bulletin 767-57A0131, Revision 1, dated May 8, 2013, do a detailed inspection of the cap seal for damaged sealant on the nuts common to outboard flap support rib numbers 1, 2, 7, and 8, and do all applicable related investigative and corrective actions, in accordance with the Accomplishment Instructions of Boeing Service Bulletin 767-57A0131, Revision 1, dated May 8, 2013. Do all applicable related investigative and corrective actions before further flight, except as specified in paragraphs (g)(1)(ii) and (g)(2)(ii) of this AD.

(1) If, during any detailed inspection of the cap seal required by paragraph (g) of this AD, no damaged sealant is found on any support rib, do the actions specified in paragraphs (g)(1)(i) and (g)(1)(ii) of this AD.

(i) Repeat the detailed inspection of the cap seal on that support rib thereafter at the intervals specified in table 1 of paragraph 1.E., “Compliance,” of Boeing Service Bulletin 767-57A0131, Revision 1, dated May 8, 2013, until all fasteners are replaced within that support rib as required by paragraph (g)(1)(ii) of this AD.

(ii) Except as required by paragraph (j) of this AD, at the time specified in table 1 of paragraph 1.E., “Compliance,” of Boeing Service Bulletin 767-57A0131, Revision 1, dated May 8, 2013: Replace all fasteners within the support rib, in accordance with the Accomplishment Instructions of Boeing Service Bulletin 767-57A0131, Revision 1, dated May 8, 2013.

(2) If, during any related investigative action required by paragraph (g) of this AD, no cracking and no corrosion is found on the nut, bolt, and washers of any support rib, do the actions specified in paragraphs (g)(2)(i) and (g)(2)(ii) of this AD.

(i) Repeat the detailed inspection of the cap seal on that support rib thereafter at the intervals specified in table 1 of paragraph 1.E., “Compliance,” of Boeing Service Bulletin 767-57A0131, Revision 1, dated May 8, 2013, until all fasteners are replaced within that support rib as required by paragraph (g)(2)(ii) of this AD.

(ii) Except as required by paragraph (j) of this AD, at the time specified in table 1 of paragraph 1.E., “Compliance,” of Boeing Service Bulletin 767-57A0131, Revision 1, dated May 8, 2013: Replace all fasteners within the support rib, in accordance with the Accomplishment Instructions of Boeing Service Bulletin 767-57A0131, Revision 1, dated May 8, 2013.

(h) For Group 2 and 3 Airplanes: Repetitive Inspections of the Support Ribs, Related Investigative and Corrective Actions, and Fastener Replacement

For Group 2 and 3 airplanes, as specified in Boeing Service Bulletin 767-57A0131, Revision 1, dated May 8, 2013: Except as required by paragraph (j) of this AD, at the time specified in table 2 of paragraph 1.E., “Compliance,” of Boeing Service Bulletin 767-57A0131, Revision 1, dated May 8, 2013, do a detailed inspection of the cap seal for damaged sealant on the nuts common to outboard flap support rib numbers 1, 2, 7, and 8, and do all applicable related investigative and corrective actions, in accordance with the Accomplishment Instructions of Boeing Service Bulletin 767-57A0131, Revision 1, dated May 8, 2013. Do all applicable related investigative and corrective actions before further flight.

(1) If, during any detailed inspection of the cap seal required by paragraph (h) of this AD, no damaged sealant is found on any support rib, do the actions specified in paragraphs (h)(1)(i) and (h)(1)(ii) of this AD.

(i) Repeat the detailed inspection of the cap seal on that support rib thereafter at the intervals specified in table 2 of paragraph 1.E., “Compliance,” of Boeing Service Bulletin 767-57A0131, Revision 1, dated May 8, 2013, until the actions required by paragraph (h)(1)(ii) of this AD are done or until all fasteners are replaced within that support rib as specified in paragraph (i) of this AD.

(ii) Except as required by paragraph (j) of this AD, at the time specified in table 2 of paragraph 1.E., “Compliance,” of Boeing Service Bulletin 767-57A0131, Revision 1, dated May 8, 2013: Do a detailed inspection to determine the nut type installed in the outboard flap support rib and do all applicable corrective actions, in accordance with the Accomplishment Instructions of Boeing Service Bulletin 767-57A0131, Revision 1, dated May 8, 2013. Do all applicable corrective actions before further flight.

(2) If, during any related investigative action required by paragraph (h) of this AD, no cracking and no corrosion is found on the nut, bolt, and washers of any support rib, do the actions specified in paragraphs (h)(2)(i) and (h)(2)(ii) of this AD.

(i) Repeat the detailed inspection of the cap seal on that support rib thereafter at the intervals specified in table 2 of paragraph 1.E., “Compliance,” of Boeing Service Bulletin 767-57A0131, Revision 1, dated May 8, 2013, until the actions required by paragraph (h)(2)(ii) of this AD are done or until all fasteners are replaced within that support rib as specified in paragraph (i) of this AD.

(ii) Except as required by paragraph (j) of this AD, at the time specified in table 2 of paragraph 1.E., “Compliance,” of Boeing Service Bulletin 767-57A0131, Revision 1, dated May 8, 2013: Do a detailed inspection to determine the nut type installed in the outboard flap support rib and do all applicable corrective actions, in accordance with the Accomplishment Instructions of Boeing Service Bulletin 767-57A0131, Revision 1, dated May 8, 2013. Do all applicable corrective actions before further flight.

(i) Terminating Action for Repetitive Inspections

(1) If cracking is found during any inspection required by paragraph (g) or (h) of this AD: Replacing all the fasteners within the outboard flap support rib number 1, 2, 7, or 8, in accordance with the Accomplishment Instructions of Boeing Service Bulletin 767-57A0131, Revision 1, dated May 8, 2013, terminates the inspections required by paragraph (g) or (h) of this AD for that support rib only.

(2) If a discrepancy other than cracking is found (e.g., corrosion) during any inspection required by paragraph (g) of this AD: Replacing all the fasteners within the outboard flap support rib number 1, 2, 7, or 8, in accordance with the Accomplishment Instructions of Boeing Service Bulletin 767-57A0131, Revision 1, dated May 8, 2013, terminates the inspections required by paragraph (g) of this AD for that support rib only.

(3) If a discrepancy other than cracking is found (e.g., corrosion) during any inspection required by paragraph (h) of this AD: Replacing the affected fastener terminates the repetitive inspections for only that fastener within that support rib.

(j) Exception to Service Information

Where Boeing Service Bulletin 767-57A0131, Revision 1, dated May 8, 2013, specifies a compliance time relative to the issue date of that service bulletin, this AD requires compliance within the specified compliance time after the effective date of this AD.

(k) Credit for Previous Actions

This paragraph provides credit for the applicable actions required by paragraphs (g), (h), and (i) of this AD, if those actions were performed before the effective date of this AD using Boeing Alert Service Bulletin 767-57A0131, dated October 30, 2012, which is not incorporated by reference in this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(m) Related Information

(1) For more information about this AD, contact Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

(2) Service information identified in this AD that is not incorporated by reference may be obtained at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 767-57A0131, Revision 1, dated May 8, 2013.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 23, 2013.
Stephen P. Boyd,
Acting Manager, Transport Airplane Directorate, Aircraft Certification Service.

[FR Doc. 2013-22414 Filed 9-16-13; 8:45 am]

BILLING CODE 4910-13-P